DEPARTMENT OF AGRICULTURE

Forest Service

36 CFR Part 251

RIN 0596-AD35

Land Uses; Special Uses; Cost Recovery, Strict Liability Limit, and Insurance

AGENCY: Forest Service, Agriculture (USDA).

ACTION: Proposed rule; reopening of comment period.

SUMMARY: The Forest Service (Forest Service or Agency), United States Department of Agriculture, published a proposed rule in the Federal Register on March 9, 2023, initiating a 60-day comment period on the proposed rule to amend its special use regulations to update the processing and monitoring fee schedules based on current Agency costs; to provide for recovery of costs associated with processing special use proposals, as well as applications; and to remove the exemption for commercial recreation special use applications and authorizations that involve 50 hours or less to process or monitor. In addition, the Forest Service is proposing to amend its special use regulations to increase the strict liability limit consistent with the strict liability limit established by the United States Department of the Interior, Bureau of Land Management, and to expressly provide for requiring holders of a special use authorization to obtain insurance, as needed. The comment period for the original document closed May 8, 2023. The Agency is reopening the comment period for an additional 30 days from the date of publication of this document.

DATES: The comment period for the proposed rule published at 88 FR 14517 on March 9, 2023, is reopened. Comments must be received in writing by June 20, 2023.

ADDRESSES: Comments, identified by RIN 0596-AD35, should be sent via one of the following methods:

1. Federal eRulemaking Portal: https://www.regulations.gov. Follow the instructions for sending comments;

2. Email: SM.FS.WO_LandStaff@usda.gov;

3. Mail: Director, Lands, Minerals, and Geology Staff, 201 14th Street SW, Washington, DC 20250-1124; or

4. Hand Delivery/Courier: Director, Lands, Minerals, and Geology Staff, 1st Floor Southeast, 201 14th Street SW, Washington, DC 20250-1124.

Comments should be confined to issues pertinent to the proposed rule, should explain the reasons for any recommended changes, and should reference the specific section and wording being addressed, where possible. All comments, including names and addresses when provided, will be placed in the record and will be available for public inspection and copying. The public may inspect comments received on this proposed rule at the Office of the Director, Lands, Minerals, and Geology Staff, 201 14th Street SW, 1st Floor Southeast, Sidney R. Yates Federal Building, Washington, DC 20024, on business days between 8:30 a.m. and 4 p.m. Visitors are encouraged to call ahead at 202-205-1680 to facilitate entry into the building.

FOR FURTHER INFORMATION CONTACT: Elrand Denson, Assistant Director, Washington Office Lands, Minerals, and Geology Staff, 202-644-5974 or elrand.denson@usda.gov. Individuals who use telecommunication devices for the deaf and hard of hearing (TDD) may call the Federal Relay Service at 800-877-8339 24 hours a day, every day of the year, including holidays.

SUPPLEMENTARY INFORMATION: The Forest Service is proposing to amend its special use regulations to update the processing and monitoring fee schedules based on current Agency costs; to provide for recovery of costs associated with processing special use proposals, as well as applications; and to remove the exemption for commercial recreation special use applications and authorizations that involve 50 hours or less to process or monitor. In addition, the Forest Service is proposing to amend its special use regulations to increase the strict liability limit consistent with the strict liability limit established by the United States Department of the Interior, Bureau of Land Management, and to expressly provide for requiring holders of a special use authorization to obtain insurance, as needed.

To provide further opportunity for the public to comment, the Agency is reopening the comment period on the proposed rule for an additional 30 days.

The proposed rule can be found at www.federalregister.gov/documents/2023/03/09/2023-04180/land-uses-special-uses-cost-recovery-strict-liability-limit-and-insurance.

After the comment period closes, the Forest Service will consider timely and relevant comments in the development of the final rule.

Dated: May 11, 2023.
Andrea Delgado,
Chief of Staff, Natural Resources and Environment.

[FR Doc. 2023-10436 Filed 5-18-23; 8:45 am]

BILLING CODE 3411-15-P